ENVIRONMENTAL PROTECTION AGENCY

[FRL-8736-5]

Electronic Report on the Environment

AGENCY: Environmental Protection Agency (EPA).

ACTION: Notice of availability.

SUMMARY: EPA is announcing the availability of the electronic Report on the Environment (eROE or ROE), an online site that provides access to the environmental and human health information contained in the EPA's 2008 Report on the Environment (EPA/600/R-07/045F), released May 20, 2008, and in the EPA's 2008 Report on the Environment: Highlights of National Trends, released September 24, 2008, in one location and in a searchable format. The ROE asks important questions about the condition of our nation's environment and human health over time and provides answers to those questions in the form of indicators. The site also includes the methodology, references, and sources of additional information behind the indicators that form the foundation of the reports. Indicators will be updated periodically on the ROE Web site so the most up-to-date information on environmental and human health condition is available to the public in a searchable format. The Web site was developed by EPA's National Center for Environmental Assessment, within the Office of Research and Development, and the Office of Environmental Information.

ADDRESSES: The Web site URL is http://www.epa.gov/roe.

FOR FURTHER INFORMATION CONTACT: The Information Management Team, National Center for Environmental Assessment (8601P), U.S. Environmental Protection Agency,1200 Pennsylvania Avenue, NW., Washington, DC 20460. Telephone: 703-347-8561; fax: 703-347-8691; e-mail: nceadc.comment@epa.gov.

SUPPLEMENTARY INFORMATION: To accomplish its mission to protect human health and the environment, EPA must pay close attention to status and trends in the nation's air, water, and land, as well as related trends in human health and ecological systems. To help meet this need, EPA embarked on an initiative in 2001 to assemble the most reliable indicators of national environmental and health conditions that are important to EPA's mission. EPA initially presented these indicators in its Draft Report on the Environment Technical Document and its publicly oriented companion document, the Draft Report on the Environment, both released in 2003. Since then, EPA has revised, updated, and refined the ROE in response to scientific developments and feedback from EPA's Science Advisory Board and other stakeholders. As a result, the EPA's 2008 Report on the Environment (EPA/600/R-07/045F), released May 20, 2008 (73 FR 29134), provides both an update and an improvement over the 2003 draft edition. In addition, EPA's Office of Environmental Information produced the companion document, EPA's 2008 Report on the Environment: Highlights of National Trends (ROE Highlights), released September 24, 2008, which presents the key findings of the ROE in a format intended for the general public and without the technical detail.

In an effort to make the content of both ROE documents widely available, EPA has created a dynamic Web site—the electronic Report on the Environment (eROE)—which has all the ROE information in a searchable format. In addition to the indicator findings and charts, it includes the methodology, references and sources of additional information behind the indicators in the report. The ROE Highlights document has an accompanying Web site with links to the ROE-wide site. Both reports are available for download from the ROE front page and the online topics are linked together to make navigation seamless. Furthermore, EPA plans to update indicator information online as new data become available so the public has access to the most current information.

Dated: October 22, 2008.
Rebecca Clark,
Acting Director, National Center for Environmental Assessment.

[FR Doc. E8-25907 Filed 10-29-08; 8:45 am]

BILLING CODE 6560-50-P